DEPARTMENT OF ENERGY

Federal Energy Regulatory Commission

[Project No. 2300-052; 2300-052; 2311-067; 2326-054; 2327-047; 2422-058; 2423-031]

Great Lakes Hydro America, LLC; Notice of Revised Procedural Schedule for Environmental Assessments for the Proposed Project Relicenses

On August 1, 2022, Great Lakes Hydro America, LLC filed applications for new major licenses for the 3.7-MW Shelburne Hydroelectric Project, the 4.8-MW Upper Gorham Hydroelectric Project, the 3.2-MW Cross Power Hydroelectric Project, the 7.9-MW Cascade Hydroelectric Project, the 3.2-MW Sawmill Hydroelectric Project, and the 7.9-MW Riverside Hydroelectric Project. On October 12, 2023, Commission staff issued a notice of intent to prepare an environmental assessment (EA) to evaluate the effects of relicensing these projects. The notice identified an anticipated schedule for issuance of draft and final EAs.

By this notice, Commission staff is updating the procedural schedule for completing the draft and final EAs. The revised schedule is shown below. Further revisions to the schedule may be made as appropriate.

Milestone | Target date
Commission issues draft EAs | May 2024.
Commission issues final EAs | September 2024. ¹

Any questions regarding this notice may be directed to Ryan Hansen at (202) 502-8074, or by email at ryan.hansen@ferc.gov.

¹ The Council on Environmental Quality's (CEQ) regulations under 40 CFR 1501.10(b)(1) (2022) require that EAs be completed within 1 year of the Federal action agency's decision to prepare an EA. See National Environmental Policy Act, 42 U.S.C. 4321 et seq., as amended by section 107(g)(1)(B)(iii) of the Fiscal Responsibility Act of 2023, Public Law 118-5, sec. 4336a, 137 Stat. 42.

Dated: April 11, 2024.
Debbie-Anne A. Reese,
Acting Secretary.

[FR Doc. 2024-08497 Filed 4-19-24; 8:45 am]

BILLING CODE 6717-01-P